Title 3—

The President

Proclamation 8712 of September 15, 2011

National Hispanic Heritage Month, 2011

By the President of the United States of America

A Proclamation

From those who trace their roots to America’s earliest days to those who recently came to the United States carrying nothing but hope for a better life, Hispanics have always been integral to our national story. As an American family more than 300 million strong, we constitute one people, sharing sacrifice and prosperity because we know we rise and fall together. America is a richer and more vibrant country because of the contributions of Hispanics, and during National Hispanic Heritage Month, we celebrate the immeasurable impact they have made on our Nation.

Hispanics have had a profound and positive influence on our country through their strong commitment to family, faith, hard work, and service. They have enhanced and shaped our national character with centuries-old traditions that reflect the multiethnic and multicultural customs of their community. They are doctors and lawyers, activists and educators, entrepreneurs and public servants, and brave service members who defend our way of life at home and abroad.

My Administration is dedicated to ensuring America remains a land of opportunity for all. Our economic strength depends on the success of Hispanic families across our country, and I am determined to put workers of all backgrounds back on the job to rebuild and modernize America, while helping small businesses grow and creating pathways to employment. We are also engaging the Hispanic community in public service, improving educational opportunities, and expanding access to affordable, quality health care. And we remain committed to fixing our broken immigration system so it can meet America’s 21st century economic and security needs.

The future of America is inextricably linked to the future of our Hispanic community. Our country thrives on the diversity and ingenuity of all our people, and our ability to out-innovate, out-educate, and out-build the rest of the world will depend greatly on the success of Hispanics. This month, as we honor their struggles and successes, let us recommit to ensuring our Nation remains a place big enough and bold enough to accommodate the dreams and prosperity of all our people.

To honor the achievements of Hispanics in America, the Congress by Public Law 100-402, as amended, has authorized and requested the President to issue annually a proclamation designating September 15 through October 15 as “National Hispanic Heritage Month.”

NOW, THEREFORE, I, BARACK OBAMA, President of the United States of America, do hereby proclaim September 15 through October 15, 2011, as National Hispanic Heritage Month. I call upon public officials, educators, librarians, and all the people of the United States to observe this month with appropriate ceremonies, activities, and programs under this year’s theme, “Renewing the American Dream.”

IN WITNESS WHEREOF, I have hereunto set my hand this fifteenth day of September, in the year of our Lord two thousand eleven, and of the Independence of the United States of America the two hundred and thirty-sixth.

[FR Doc. 2011-24332

Filed 9-19-11; 11:15 am]

Billing code 3195-W1-P